FEDERAL COMMUNICATIONS COMMISSION

47 CFR Part 0

[ET Docket No. 01-278; FCC 04-98]

Radio Frequency Identification

AGENCY: Federal Communications Commission.

ACTION: Final rule; correction.

SUMMARY: On May 24, 2004 (69 FR 29459), the Commission published final rules in the Third Report and Order. The Third Report and Order allows for operation of improved radio frequency identification systems in the 433.5-434.5 MHz (“433 MHz”) band. This document contains a correction to the § 0.457 (d)(1)(vii), which was inadvertently added.

DATES: Effective June 23, 2004.

FOR FURTHER INFORMATION CONTACT: Hugh VanTuyl (202) 418-7506, e-mail Hugh.VanTuyl@fcc.gov, Office of Engineering and Technology.

SUPPLEMENTARY INFORMATION: The Federal Communications Commission published a document proposing to amend parts 0 and 15 in the Federal Register of May 24, 2004 (69 FR 29459). This document corrects the Federal Register as it appeared. In FR Doc. 04-11537, published on May 24, 2004 (69 FR 29459), the Commission is correcting § 0.457 (d)(1)(vii), to read as § 0.457 (d)(1)(vi). In rule FR Doc. 04-11537 published on May 24, 2004 (69 FR 29459), the Commission is correcting § 0.457 (d)(1)(vii), to read as § 0.457 (d)(1)(vi),:

On page 29464, in the first column, the paragraph designation is corrected to read as § 0.457 (d)(1)(vi).

Federal Communications Commission.
Marlene H. Dortch,
Secretary.

[FR Doc. 04-13487 Filed 6-15-04; 8:45 am]

BILLING CODE 6712-01-P